DEPARTMENT OF ENERGY

Federal Energy Regulatory Commission

[Docket No. ER02-1894-000, et al.]

Bethlehem Steel Corporation, et al. Electric Rate and Corporate Regulation Filings

June 3, 2002.

The following filings have been made with the Commission. The filings are listed in ascending order within each docket classification.

1. Bethlehem Steel Corporation

[ Docket No. ER02-1894-000]

Take notice that on May 23, 2002, Bethlehem Steel Corporation (Bethlehem Steel) tendered for filing under Section 205 of the Federal Power Act, a rate schedule for reactive services provided to the Pennsylvania-New Jersey-Maryland Interconnection, L.L.C. (PJM) transmission grid from Bethlehem Steel's Pennwood facility.

Bethlehem Steel requests an effective date on the first day of the month immediately following Commission approval of the filing. Copies of this filing were served upon PJM.

Comment Date: June 13, 2002.

2. California Independent System Operator Corporation

[Docket No. ER02-1895-000]

Take notice that on May 24, 2002, the California Independent System Operator Corporation (ISO) filed a notice a Meter Service Agreement for ISO Metered Entities (MSA) between the ISO and Yuba City Energy Center, LLC. The ISO requests that the MSA be made effective as of May 10, 2002.

The ISO has served copies of this filing upon Yuba City Energy Center, LLC and the Public Utilities Commission of the State of California.

Comment Date: June 14, 2002.

3. California Independent System Operator Corporation

[Docket No. ER02-1896-000]

Take notice that on May 24, 2002, the California Independent System Operator Corporation (ISO) filed a Participating Generator Agreement (PGA) between the ISO and Yuba City Energy Center, LLC. The ISO requests that the PGA be made effective as of May 10, 2002.

The ISO has served copies of this filing upon Yuba City Energy Center, LLC and the Public Utilities Commission of the State of California.

Comment Date: June 14, 2002.

4. California Independent System Operator System

[Docket No. ER02-1897-000]

Take notice that on May 24, 2002, the California Independent System Operator Corporation (ISO) filed a notice concerning the termination of the Participating Generator Agreement (PGA) between the ISO and POSDEF Power Company, L.P. (POSDEF). The ISO requests that the termination of the PGA be effective as of April 30, 2002.

The ISO has served copies of this filing upon POSDEF, the Public Utilities Commission of the State of California, and the persons listed on the service list for Docket No. ER01-1956-000.

Comment Date: June 14, 2002.

5. California Independent System

[Docket No. ER02-1898-000]

Take notice that on May 24, 2002, the California Independent System Operator Corporation (ISO) filed a notice concerning the termination of the Meter Service Agreement for ISO Metered Entities (MSA) between the ISO and POSDEF Power Company, L.P. (POSDEF). The ISO requests that the termination of the MSA be effective as of April 30, 2002.

The ISO has served copies of this filing upon POSDEF, the Public Utilities Commission of the State of California, and the persons listed on the service list for Docket No. ER01-1955-000.

Comment Date: June 14, 2002.

6. New York Independent System Operator, Inc.

[Docket No. ER02-1899-000]

Take notice that on May 24, 2002, the New York Independent System Operator, Inc. (NYISO) on behalf of the Long Island Power Authority (LIPA), filed proposed revisions to the NYISO's Open Access Transmission Tariff (OATT). The proposed filing would revise LIPA's wholesale transmission service charge.

The NYISO has requested that the Commission make the filing effective on June 1, 2002. A copy of this filing was served upon all signatories of the NYISO OATT.

Comment Date: June 14, 2002.

7. New York Independent System Operator, Inc.

[Docket No. ER02-1900-000]

Take notice that on May 24, 2002, the New York Independent System Operator, Inc. (NYISO) filed revisions to its Market Administration and Control Area Services Tariff (Services Tariff) in order to ensure the deliverability of energy from New York generators that have committed to supply installed capacity to external control areas.

The NYISO has served a copy of this filing to all parties that have executed Service Agreements under the NYISO's Open-Access Transmission Tariff or Services Tariff, to ISO New England Inc., the PJM Interconnection, L.L.C., the New York State Public Service Commission and to the electric utility regulatory agencies in New Jersey and Pennsylvania.

Comment Date: June 14, 2002.

8. South Carolina Electric & Gas Company

[Docket No. ER02-1901-000]

Take notice that on May 24, 2002, South Carolina Electric & Gas Company (SCE&G) submitted a firm point-to-point transmission service agreement and a non-firm transmission service agreement (the Agreements) establishing UBS AG, London Branch (UBS London) as a customer under the terms of SCE&G's Open Access Transmission Tariff.

SCE&G requests an effective date of April 24, 2002, for the Agreements. Accordingly, SCE&G requests waiver of the Commission's notice requirements. Copies of this filing were served upon UBS London and the South Carolina Public Service Commission.

Comment Date: June 14, 2002.

Standard Paragraph

E. Any person desiring to intervene or to protest this filing should file with the Federal Energy Regulatory Commission, 888 First Street, N.E., Washington, D.C. 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-14573 Filed 6-10-02; 8:45 am]

BILLING CODE 6717-01-P